DEPARTMENT OF TRANSPORTATION

Federal Aviation Administration

Notice of Intent To Prepare an Environmental Assessment and Request for Public Scoping Comments for the Air Tour Management Plan Program at Petrified Forest National Park

AGENCY: Federal Aviation Administration (FAA).

ACTION: Notice of Intent To Prepare an Environmental Assessment and To request public scoping comments.

SUMMARY: The FAA, with National Park Service (NPS) as a cooperating agency, has initiated development of an Air Tour Management Plan (ATMP) for Petrified Forest National Park (Petrified Forest), pursuant to the National Parks Air Tour Management Act of 2000 (Pub. L. 106-181) and its implementing regulations (14 CFR Part 136, Subpart B, National Parks Air Tour Management). The objective of the ATMP is to develop acceptable and effective measures to mitigate or prevent the significant adverse impacts, if any, of commercial air tour operations on the natural resources, cultural resources, and visitor experiences of a national park unit and any Tribal lands within or abutting the park. It should be noted that the ATMP has no authorization over other non-air-tour operations such as military and general aviation operations. In compliance with the National Environmental Policy Act of 1969 (NEPA) and FAA Order 1050.1E, an Environmental Assessment (EA) is being prepared.

In April 2010, the NPS and FAA held a two-day kickoff meeting at Petrified Forest; minutes may be found at: http://parkplanning.nps.gov/projectHome.cfm?parkId=88&projectId=30802.

The purpose of the kickoff meeting was for the FAA and NPS to have the opportunity to share information regarding environmental and other issues to consider in the development of an ATMP. Materials presented at the meeting included information on: park resources; the acoustical environment at Petrified Forest; current and historical air tour operations; and representative air tour flight paths. In addition, Petrified Forest staff provided information regarding sensitive park resources, Tribal concerns, and tourism patterns.

The FAA and NPS are now inviting the public, agencies, Tribes, and other interested parties to provide comments, suggestions, and input on the scope of issues to be addressed in the environmental process.

DATES: By this notice, the FAA is requesting comments on the scope of the EA for the ATMP at Petrified Forest. Comments must be submitted by August 2, 2010.

FOR MORE INFORMATION CONTACT: Keith Lusk—Mailing address: P.O. Box 92007, Los Angeles, California 90009-2007. Telephone: (310) 725-3808. Street address: 15000 Aviation Boulevard, Lawndale, California 90261.

Written comments on the scope of the EA should be submitted electronically via the electronic public comment form on the NPS Planning, Environment and Public Comment System at: http://parkplanning.nps.gov/projectHome.cfm?parkId=88&projectId=30802, or sent to the mailing address above.

SUPPLEMENTARY INFORMATION: A public scoping packet that describes the project in greater detail is available at:

• http://parkplanning.nps.gov/projectHome.cfm?parkId=88&projectId=30802.

• Alpine Public Library.

• Flagstaff City-Coconino Public Library.

• Northern Arizona University Library-Cline Library.

• Gallup Public Library.

• Holbrook Public Library.

• Northland Pioneer College Library.

• Larson Public Memorial Library.

• New Mexico State University Library.

• Painted Cliffs Welcome Center.

• Painted Desert Visitor Center.

• Phoenix Public Library.

• Casa Malpais Visitor Center and Museum.

• Apache County Library District Office.

• Navajo Community College Library-Tsaile Campus.

• Tucson-Pima County Public Library.

• Roxanne Whipple Memorial Library-Winslow.

Notice Regarding FOIA: Individuals may request that their name and/or address be withheld from public disclosure. If you wish to do this, you must state this prominently at the beginning of your comment. Commentators using the Web site can make such a request by checking the box “keep my contact information private.” Such requests will be honored to the extent allowable by law, but you should be aware that pursuant to the Freedom of Information Act, your name and address may be disclosed. We will make all submissions from organizations, businesses, and from individuals identifying themselves as representatives or officials of organizations or businesses available for public inspection in their entirety.

Issued in Hawthorne, CA on June 23, 2010.
Keith Lusk,
Program Manager, Special Programs Staff, Western-Pacific Region.

[FR Doc. 2010-16077 Filed 6-30-10; 8:45 am]

BILLING CODE 4910-13-P